DEPARTMENT OF COMMERCE

Bureau of Industry and Security

National Infrastructure Advisory Council; Notice of Open Meeting

The National Infrastructure Advisory Council (NIAC) will meet on Wednesday, January 8, 2003, from 3 p.m. until 5 p.m. EST. The meeting, which will be held telephonically, will be open to the public. Members of the public interested in attending by telephone should call (toll free) 1-899-7785 or (toll) 1-913-312-4169 and, when prompted, enter pass code 1468517.

The Council advises the President of the United States on the security of information systems for critical infrastructure supporting other sectors of the economy, including banking and finance, transportation, energy, manufacturing, and emergency government services. At this meeting, the Council will continue its deliberations on comments to be delivered to President Bush concerning the draft National Strategy to Secure Cyberspace.

Agenda

I. Opening of meeting and roll call: John Tritak, Director, Critical Infrastructure Assurance Office/Designated Federal Officer, NIAC

II. Opening remarks: Richard Clarke, Special Advisor to the President for Cyperspace Security/Executive Director, NIAC; Richard Davidson, Chairman, NIAC; and John Chambers, Vice Chairman, NIAC

III. Presentation of draft Comments document: Mr. Davidson

IV. Discussion and adoption of Comments: NIAC Members

V. Discussion of next steps/timeline for publication and delivery of document: NIAC Members

VI. Adjournment

Written comments may be submitted at any time before or after the meeting. However, to facilitate distribution of public presentation materials to Council members, the Council suggests that presenters forward the public presentation materials, ten days prior to the meeting date, to the following address: Ms. Wanda Rose, Critical Infrastructure Assurance Office, Bureau of Industry and Security, U.S. Department of Commerce, Room 6095, 14th Street & Constitution Avenue, NW., Washington, DC 20230.

For more information contact Wanda Rose on (202) 482-7481.

Dated: December 19, 2002.
Eric T. Werner,
Council Liaison Officer.

[FR Doc. 02-32435 Filed 12-23-02; 8:45 am]

BILLING CODE 3510-JT-M